DEPARTMENT OF HOMELAND SECURITY

Transportation Security Administration

Aviation Security Advisory Committee Meeting

AGENCY: Transportation Security Administration (TSA), DHS.

ACTION: Notice of meeting.

SUMMARY: This notice announces a public meeting of the Aviation Security Advisory Committee (ASAC).

DATES: The meeting will take place on January 11, 2006, from 9 a.m. to 12:30 p.m. or the conclusion of the committee's business.

ADDRESSES: The meeting will be held at Residence Inn by Marriott Pentagon City, 550 Army Navy Drive, Arlington VA 22202.

FOR FURTHER INFORMATION CONTACT: Joseph Corrao, Office of Transportation Sector Network Integration, Transportation Security Administration, 601 South 12th Street, Arlington, VA 22202-4220; telephone 571-227-2980, e-mail joseph.corrao@dhs.gov.

SUPPLEMENTARY INFORMATION: This meeting is announced pursuant to section 10(a)(2) of the Federal Advisory Committee Act, as amended (5 U.S.C. App.). The agenda for the meeting will include—

• Status reports on the actions of the Airport Security Design Guidelines Working Group, the Aviation Security Impact Assessment Working Group, and the Freight Assessment System Working Group;

• A proposal to establish a new working group on Baggage Screening Investment; and

• Other aviation security topics.

This meeting is open to the public but attendance is limited to space available. Members of the public must make advance arrangements to present oral statements at the meeting. Written statements may be presented to the committee by providing copies of them to the person listed under the heading FOR FURTHER INFORMATION CONTACT prior to or at the meeting. Anyone in need of assistance or a reasonable accommodation for the meeting should contact the person listed under the heading FOR FURTHER INFORMATION CONTACT. In addition, sign and oral interpretation, as well as a listening device, can be made available at the meeting if requested 10 calendar days before the meeting. Arrangements may be made by contacting the person listed under the heading FOR FURTHER INFORMATION CONTACT.

Issued in Arlington, Virginia, on December 19, 2005.
Mike Restovich,
Assistant Administrator, Transportation Sector Network Management.

[FR Doc. 05-24401 Filed 12-22-05; 8:45 am]

BILLING CODE 4910-62-P